DEPARTMENT OF AGRICULTURE

Forest Service

2003 Forest Legacy Program Implementation Guidelines

AGENCY: Forest Service, USDA.

ACTION: Notice of availability of program guidelines.

SUMMARY: The Forest Service is issuing a notice of the availability for the 2003 Forest Legacy Program Implementation Guidelines. These guidelines were last updated in 1996. The Cooperative Forestry Assistance Act of 1978 (CFAA) authorizes the Secretary of Agriculture, through the Forest Service to develop, in cooperation with interested States, a Forest Legacy Program to identify and protect environmentally important private forest lands that are threatened by conversion to non-forest uses. The Federal Agricultural Improvement and Reform Act of 1996 amended the CFAA to provide for optional grants for States to carry out the program.

DATES: The 2003 Forest Legacy Program Implementation Guidelines were effective June 30, 2003.

ADDRESSES: Copies of the 2003 Forest Legacy Program Implementation Guidelines are available by contacting Rick Cooksey, Cooperative Forestry Staff, USDA Forest Service, Mail Stop Code 1123, 1400 Independence Avenue, SW., Washington, DC 20250-1123; via telephone at (202) 205-1469; via facsimile at (202) 205-1271; or via the world-wide web Internet: http://www.fs.fed.us/spf/coop/library/fpl_guidelines.pdf.

FOR FURTHER INFORMATION CONTACT: Rick Cooksey, USDA Forest Service, Cooperative Forestry Staff, (202) 205-1469; or rcooksey@fs.fed.us.

SUPPLEMENTARY INFORMATION:

Background

The Cooperative Forestry Assistance Act (CFAA) of 1978, as amended, (16 U.S.C. 2101 et seq.) provides authority for the Secretary of the U.S. Department of Agriculture (Secretary) to provide financial, technical, educational, and related assistance to States, communities, and private forest landowners. Section 1217 of Title XII of the Food, Agriculture, Conservation and Trade Act of 1990 (Pub. L. 101-624:104 Stat. 3359; 16 U.S.C. 2103c), also referred to as the 1990 Farm Bill, amends the CFAA and directs the Secretary to establish the Forest Legacy Program (FLP) to protect environmentally important forest areas that are threatened by conversion to nonforest uses. Through the 1996 Farm Bill (Federal Agricultural Improvement and Reform Act of 1996; Pub. L. 104-127; Title III—Conservation; Subtitle G—Forestry; Section 374, Optional State Grants for Forest Legacy Program), the Secretary is authorized, at the request of a participating State, to make a grant to the State to carry out FLP in that State, including the acquisition by the State of lands and interests in lands. Under section 6 of the Act of March 1, 1911, (16 U.S.C. 515), and section 11(a) of the Department of Agriculture Organic Act of 1956 (7 U.S.C. 428(a)), the Secretary of Agriculture continues to have authority to acquire environmentally important forest lands and interests therein for Federal acquisition, including conservation easements and rights of public access, with title vested in the U.S. Government. Both the State grant and the Federal acquisition programs operate on a willing seller and a willing buyer basis.

In 1996, the Forest Service issued the Forest Legacy Program Implementation guidelines, which were an update of the 1992 guidelines. In 2000, the Forest Service embarked on an effort to update the 1996 Guidelines, to provide clear and current direction to meet the needs of a rapidly growing national program. As part of the process, several drafts were circulated with open public comment periods resulting in hundreds of comments received and integrated into a draft document. However, in November 2001, when the revision was almost complete, the Surveys and Investigations Staff of the House of Representatives Appropriations Committee launched a 6-month investigation of the program. After a thorough review of FLP, the Congressional investigation findings required the Forest Service to develop additional direction related to key areas of the program, including: (1) The appraisal and appraisal review process, (2) the project selection process, (3) the process for redirecting and reprogramming project funds, and (4) the monitoring requirements for conservation easements.

General Information

The final 2003 Forest Legacy Program Implementation Guidelines reflect the work of a team of representatives from State lead agencies and Forest Service Washington Office and Regional offices. This team considered and integrated, to the extent practicable, all comments received throughout the process as well as the findings from the Congressional investigation. The guidelines will improve program operation, provide clarity on definitions, policy, and process, and respond to the findings of the Congressional report and direction.

The Forest Legacy Program Implementation Guidelines have four components:

Part 1—General Program Guidelines: Program direction applicable to all aspects of FLP, including Assessment of Need development, eligibility criteria, project selection process, process for redirection and reprogramming of funds, cost share requirements, landowner participation, appraisal and appraisal review, and conservation easement information.

Part 2—State Grant Program Guidelines: Program direction applicable to States and Forest Service Regions, Areas, and the International Institute of Tropical Forestry where a State has elected the State grant option and where ownership of lands or interests in lands is vested in a State or a subdivision of a State.

Part 3—Federal Acquisition Program Guidelines: Program direction applicable to States and Forest Service Regions, Areas, and the International Institute of Tropical Forestry selecting the Federal acquisition and ownership process, where ownership of lands or interests in lands is vested in the United States.

Appendices: Numerous appendices that provide supplemental information such as references to Office of Management and Budget circulars, qualifications required of an appraiser or review appraiser, an example cost share calculations, and a sample of FLP graphics.

The revised 2003 Forest Legacy Program Implementation Guidelines were mailed to State lead agencies, State Foresters (when different from the State lead agency), national partners, and Forest Service Regions, Areas, and the International Institute of Tropical Forestry.

Dated: July 24, 2003.
Robin L. Thompson,
Associate Deputy Chief, State and Private Property.

[FR Doc. 03-19567 Filed 7-31-03; 8:45 am]

BILLING CODE 3410-11-P